Title 3—

The President

Proclamation 9692 of January 22, 2018

National School Choice Week, 2018

By the President of the United States of America

A Proclamation

All American children deserve the opportunity to achieve their dreams through hard work and personal integrity. Our Nation's education policies must support them on their journeys, recognizing the diverse career goals and academic needs of students in communities across our country. During National School Choice Week, we honor those dedicated educators, administrators, and State and local lawmakers, who promote student-focused academic options for all families, as we increase educational freedom for all Americans.

The United States is one of the most educated countries in the world. Almost 90 percent of American adults attain a high school diploma or GED. But our students deserve more than just a paper diploma. Indeed, they deserve access to an education that provides the tools needed to succeed in our ever-evolving world. To maintain our global leadership and strengthen our modern economy, America's education system must prepare students for the unforeseen challenges of the future. Communities that provide academic options—traditional public, public charter, private, magnet, parochial, virtual, and homeschooling—empower parents and guardians to select the best educational fit for their children.

School choice helps alleviate common hindrances to success and creates the space necessary for students' aspirations to flourish. Families that participate in school choice programs are not the only ones who benefit from expanded educational options. Children in traditional public schools benefit as well. In fact, 29 of the top 31 empirical studies on the topic find that freedom of school choice improves the performance of nearby public schools.

My Administration is refocusing education policy on students. We are committed to empowering those most affected by school choice decisions and best suited to direct taxpayer resources, including States, local school boards, and families. As part of my steadfast commitment to invest in America's students, I signed into law the Tax Cuts and Jobs Act last December. One of the bill's provisions includes an expansion of 529 education savings plans so that their funds can be allocated tax-free to K-12 public, private, and religious educational expenses. By giving parents more control over their children's education, we are making strides toward a future of unprecedented educational attainment and freedom of choice. Under the leadership of Secretary of Education Betsy DeVos, we will continue to advance school choice so that every child in America has access to the tools best suited to enabling them to achieve the American Dream.

During National School Choice Week, I encourage parents to explore innovative educational alternatives, and I challenge students to dream big and work hard for the futures they deserve. I also urge State and Federal lawmakers to embrace school choice and enact policies that empower families and strengthen communities.

NOW, THEREFORE, I, DONALD J. TRUMP, President of the United States of America, by virtue of the authority vested in me by the Constitution and the laws of the United States, do hereby proclaim January 21 to January 27, 2018, as National School Choice Week.

IN WITNESS WHEREOF, I have hereunto set my hand this twenty-second day of January, in the year of our Lord two thousand eighteen, and of the Independence of the United States of America the two hundred and forty-second.

[FR Doc. 2018-01620

Filed 1-24-18; 2:00 pm]

Billing code 3295-F8-P